SECURITIES AND EXCHANGE COMMISSION

[Release No. 34-91190A; File No. S7-24-89]

Self-Regulatory Organizations; Notice of Filing and Immediate Effectiveness of the Fiftieth Amendment to the Joint Self-Regulatory Organization Plan Governing the Collection, Consolidation and Dissemination of Quotation and Transaction Information for Nasdaq-Listed Securities Traded on Exchanges on an Unlisted Trading Privileges Basis; Correction

March 3, 2021.

AGENCY: Securities and Exchange Commission.

ACTION: Notice; correction.

SUMMARY: The Securities and Exchange Commission published a document in the Federal Register on March 1, 2021, concerning a Notice of Filing and Immediate Effectiveness of the Fiftieth Amendment to the Joint Self-Regulatory Organization Plan. The document header contained a typographical error.

FOR FURTHER INFORMATION CONTACT: Mia Zur, Division of Trading and Markets, Securities and Exchange Commission, 100 F Street NE, Washington, DC 20549, (202) 551-3088.

Correction

In the Federal Register of March 1, 2021 in FR Doc. 2021-04089, on page 12045, in the heading “Joint Industry Plan; Notice of Filing and Immediate Effectiveness of the Fiftieth Amendment to the Joint Self-Regulatory Organization Plan Governing the Collection, Consolidation and Dissemination of Quotation and Transaction Information to Nasdaq-Listed Securities Traded on Exchanges on an Unlisted Trading Privileges Basis” remove “and Immediate Effectiveness” from the heading.

J. Matthew DeLesDernier,
Assistant Secretary.

[FR Doc. 2021-04712 Filed 3-5-21; 8:45 am]

BILLING CODE 8011-01-P